DEPARTMENT OF ENERGY

Federal Energy Regulatory Commission

[Docket No. OR12-5-000]

ONEOK Rockies Midstream, L.L.C.; Notice for Temporary Waiver of Filing and Reporting Requirements

Take notice that on December 15, 2011, pursuant to Rule 204 of the Rules of Practices and Procedures of the Federal Energy Regulatory Commission, 18 CFR 385.204 (2011), ONEOK Rockies Midstream, L.L.C. (ONEOK) submitted a request for temporary waiver of the tariff-filing requirements set forth in section 6 of the Interstate Commerce Act; ¹ the reporting requirements set forth in section 20 of the Act; ² and the filing and reporting requirements set forth in Parts 341 and 357 of the Commission's regulations ³ with respect to a pipeline that ONEOK plans to construct for the transportation of “raw mix” natural gas liquids between certain Stateline plants in Williams County, North Dakota, and the Riverview Rail Terminal in Richland County, Montana.

¹ 49 U.S.C. 6(1) AND 6(5) (Supp. 1982).

² 49 U.S.C. 20(1), 20(3), and 20(5) (Supp. 1982).

³ 18 CFR Parts 341 and 357 (2009) .

Any person desiring to intervene or to protest in the above reference proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed docket(s). For assistance with any FERC Online service, please email FERCOnlineSupport@ferc.gov. or call (866) 208-3676 (toll free). For TTY, call (202) 502-8659.

Comment Date: 5 p.m. Eastern Time on Tuesday, January 3, 2012.

Dated: December 21, 2011.
Kimberly D. Bose,
Secretary.

[FR Doc. 2011-33310 Filed 12-28-11; 8:45 am]

BILLING CODE 6717-01-P